DEPARTMENT OF COMMERCE

Bureau of Industry and Security

Regulations and Procedures Technical Advisory Committee; Notice of Partially Closed Meeting

The Regulations and Procedures Technical Advisory Committee (RPTAC) will meet March 4, 2003, 9 a.m., Room 3884, in the Herbert C. Hoover Building, 14th Street between Constitution and Pennsylvania Avenues, NW., Washington, DC. The Committee advises the Office of the Assistant Secretary for Export Administration on implementation of the Export Administration Regulations (EAR) and provides for continuing review to update the EAR as needed.

Agenda

Public Session

1. Opening remarks by the Chairman.

2. Presentation of papers or comments by the public.

3. Update on pending regulations.

4. Update on Wassenaar Arrangement proposals.

5. Discussion on status of encryption regulation recommendations.

6. Discussion of deemed export license conditions and process review.

7. Discussion on status of Automated Export System regulations and related Customs Service proposals.

8. Working group status reports and discussion of future plans.

Closed Session

9. Discussion of matters properly classified under Executive Order 12958, dealing with the U.S. export control program and strategic criteria related thereto, and of matters the disclosure of which would be likely to frustrate the implementation of agency action as described in 5 U.S.C. 552b(c)(9)(B).

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to the following address: Ms. Lee Ann Carpenter, OSIES/EA/BIS MS: 3876, U.S. Department of Commerce, 14th St. & Constitution Ave., NW., Washington, DC 20230.

The Assistant Secretary for Administration, with the concurrence of the delegate of the General Counsel, formally determined on February 11, 2003, pursuant to section 10(d) of the Federal Advisory Committee Act, as amended, that the portion of the meeting dealing with the classified materials listed in 5 U.S.C. 552b(c)(1) and the portion of the meeting dealing with matters the disclosure of which would be likely to frustrate the implementation of agency action as described in 5 U.S.C. 552b(c)(9)(B) shall be exempt from the provisions relating to public meetings found in section 10(a)(1) and 10(a)(3) of the Federal Advisory Committee Act. The remaining series of meetings or portions thereof will be open to the public.

For more information, call Lee Ann Carpenter at (202) 482-2583.

Dated: February 12, 2003.
Lee Ann Carpenter,
Committee Liaison Officer.

[FR Doc. 03-3811 Filed 2-14-03; 8:45 am]

BILLING CODE 3510-JT-M